DEPARTMENT OF JUSTICE

Drug Enforcement Administration

[Docket No. DEA-770]

Bulk Manufacturer of Controlled Substances Application: Sigma Aldrich Research Biochemicals, Inc

AGENCY: Drug Enforcement Administration, Justice.

ACTION: Notice of application.

SUMMARY: Sigma Aldrich Research Biochemicals, Inc, has applied to be registered as a bulk manufacturer of basic class(es) of controlled substance(s). Refer to SUPPLEMENTARY INFORMATION listed below for further drug information.

DATES: Registered bulk manufacturers of the affected basic class(es), and applicants therefore, may file written comments on or objections to the issuance of the proposed registration on or before April 26, 2021. Such persons may also file a written request for a hearing on the application on or before April 26, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on December 17, 2020, Sigma Aldrich Research Biochemicals, Inc, 400-600 Summit Drive, Burlington, Massachusetts 01803, applied to be registered as a bulk manufacturer of the following basic classes of controlled substances:

Controlled substance | Drug code | Schedule
Cathinone | 1235 | I
4-Methyl-N-Methylcathinone | 1248 | I
Methaqualone | 2565 | I
JWH-018 & AM678 | 7118 | I
Lysergic Acid Diethylamide | 7315 | I
Tetrahydrocannabinols | 7370 | I
Mescaline | 7381 | I
3,4-Methylenedioxymethamphetamine | 7405 | I
Alpha-Methyltryptamine | 7432 | I
Dimethyltryptamine | 7435 | I
5-Methoxy-N,N-Diisopropyltryptamine | 7439 | I
1-Benzylpiperazine | 7493 | I
2-(2,5-Dimethoxyphenyl) Ethanamine | 7517 | I
3,4-Methylenedioxypyrovalerone | 7535 | I
3,4-Methylenedioxy-N-Methylcathinone | 7540 | I
Heroin | 9200 | I
Normorphine | 9313 | I
Norlevorphanol | 9634 | I
Amphetamine | 1100 | II
Methylphenidate | 1724 | II
Nabilone | 7379 | II
Phencyclidine | 7471 | II
Cocaine | 9041 | II
Codeine | 9050 | II
Ecgonine | 9180 | II
Levorphanol | 9220 | II
Meperidine | 9230 | II
Methadone | 9250 | II
Morphine | 9300 | II
Thebaine | 9333 | II
Levo-Alphacetylmethadol (LAAM) | 9648 | II
Noroxymorphone | 9668 | II
Remifentanil | 9739 | II
Sufentanil | 9740 | II
Carfentanil | 9743 | II
Fentanyl | 9801 | II

The company plans to manufacture reference standards.

William T. McDermott,
Assistant Administrator.

[FR Doc. 2021-03760 Filed 2-23-21; 8:45 am]

BILLING CODE 4410-09-P